SMALL BUSINESS ADMINISTRATION

Data Collection Available for Public Comments

ACTION: 60-day notice and request for comments.

SUMMARY: The Small Business Administration (SBA) intends to request approval, from the Office of Management and Budget (OMB) for the collection of information described below. The Paperwork Reduction Act (PRA) of 1995, 44 U.S.C Chapter 35 requires federal agencies to publish a notice in the Federal Register concerning each proposed collection of information before submission to OMB, and to allow 60 days for public comment in response to the notice. This notice complies with that requirement.

DATES: Submit comments on or before December 22, 2015.

ADDRESSES: Send all comments to Michael Simmons, Attorney Advisor, Office of Capital Access, Small Business Administration, 395 E Street, Patriots Plaza, Washington, DC 20416.

FOR FURTHER INFORMATION CONTACT: Michael Simmons, Attorney Advisor, Office of Capital Access, Michael.simmons@sba.gov 202-205-6402, or Curtis B. Rich, Management Analyst, 202-205-7030, curtis.rich@sba.gov.

SUPPLEMENTARY INFORMATION: Information collection is needed to ensure that Microloan Program activity meets the statutory goals of assisting mandated target market. The information is used by the reporting participants and the SBA to assist with portfolio management, risk management, loan servicing, oversight and compliance, data management and understanding of short and loan term trends and development of outcome measures.

Solicitation of Public Comments

SBA is requesting comments on (a) whether the collection of information is necessary for the agency to properly perform its functions; (b) whether the burden estimates are accurate; (c) whether there are ways to minimize the burden, including through the use of automated techniques or other forms of information technology; and (d) whether there are ways to enhance the quality, utility, and clarity of the information.

Summary of Information Collection

Title: Microloan Program Electronic Reporting System (MPERS) (MPERsystem).

Description of Respondents: SBA reporting participants in the Microloan Program.

Form Number: N/A.

Total Estimated Annual Responses: 170.

Total Estimated Annual Hour Burden: 3,060.

Curtis B. Rich,
Management Analyst.

[FR Doc. 2015-26896 Filed 10-22-15; 8:45 am]

BILLING CODE 8025-01-P